DEPARTMENT OF THE INTERIOR

National Park Service

[NPS-WASO-NAGPRA-NPS0037095; PPWOCRADN0-PCU00RP14.R50000]

Notice of Inventory Completion: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History, University of Oklahoma (SNOMNH) has completed an inventory of human remains and associated funerary objects and has determined that there is a cultural affiliation between the human remains and associated funerary objects and Indian Tribes or Native Hawaiian organizations in this notice. The human remains and associated funerary objects were removed from McCurtain County, OK.

DATES: Repatriation of the human remains and associated funerary objects in this notice may occur on or after January 18, 2024.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: This notice is published as part of the National Park Service's administrative responsibilities under NAGPRA. The determinations in this notice are the sole responsibility of the SNOMNH. The National Park Service is not responsible for the determinations in this notice. Additional information on the determinations in this notice, including the results of consultation, can be found in the inventory or related records held by the SNOMNH.

Description

In 1955, human remains representing, at minimum, six individuals were removed from the A.W. Davis site (34Mc6) in McCurtain County, OK. The site is located on the west bank of the Glover River and about one mile west of the small community of Glover, OK. Following extensive looting at the site, the University of Oklahoma carried out excavations at 34Mc6 in June and July of 1955, and at an unknown date, the excavated material remains were transferred to the SNOMNH. The human remains belong to a neonate, an infant, a child, and three adults of indeterminate sex who had been interred at the site during the pre-contact era, between A.D. 1200 and 1500. The 432 associated funerary objects are: 17 stone projectile points, one flake, three unmodified stones, one sample of pigment, two faunal bone fragments, one shell fragment, three samples of charcoal, three Avery Engraved ceramic vessels, one Harleton Applique ceramic jar, 10 decorated ceramic vessels, two partially reconstructed decorated ceramic vessels, one undecorated ceramic vessel, 66 decorated potsherds, 303 undecorated potsherds, 16 daub fragments, and two fragments of fired clay.

In 1941, human remains representing, at minimum, nine individuals were removed from the Clement 3 site (34Mc10) in McCurtain County, OK. This site was excavated in November of 1941 by the Works Progress Administration (WPA) under the direction of archeologists from the University of Oklahoma, and in 1941, the excavated material remains were transferred to the SNOMNH. The human remains belong to four adults of indeterminate sex, four children, and an individual whose age and sex could not be determined who had been interred at the site during the pre-contact era, between A.D. 1200 and 1500. The 115 associated funerary objects are six decorated ceramic jars, one decorated ceramic bowl, five undecorated ceramic bowls, one undecorated ceramic jar, two bags of decorated potsherds, 14 decorated potsherds, one bag of undecorated potsherds, 83 undecorated potsherds, one groundstone fragment, and one sample of green pigment.

In 1941, human remains representing, at minimum, 20 individuals were removed from the McDonald 1 site (34Mc11) in McCurtain County, OK. This site was excavated by the WPA in 1941-1942, and in 1965, the excavated material remains were transferred to the SNOMNH. The human remains belong to two children, two adult males, and 16 adults of indeterminate sex who had been interred at the site during the pre-contact era, between A.D. 1200 and 1500. The 272 associated funerary objects are one Simms Engraved ceramic bowl, one decorated ceramic bottle, 12 decorated ceramic vessels, 25 ceramic vessels, 206 potsherds, 17 projectile points, two modified stones, two stone pebbles, two quartz crystals, one animal bone fragment, one bag of animal bone fragments, and two bags of shell fragments.

In 1964-1965, human remains representing, at minimum, two individuals were removed from the Baldwin site (34Mc84) in McCurtain County, OK. This site was excavated in 1964-1965 by the University of Oklahoma, and in 1965, the excavated material remains were transferred to the SNOMNH. The human remains consist of a partial skeleton belonging to an adult female and a partial skeleton belonging to a young adult who is probably female. The 29 associated funerary objects are two ceramic jars, one ceramic bottle, one partial ceramic vessel, one bag of decorated potsherds, 14 undecorated potsherds, two bags of undecorated potsherds, seven animal bone fragments, and one modified stone.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, and oral traditional.

Determinations

Pursuant to NAGPRA and its implementing regulations, and after consultation with the appropriate Indian Tribes and Native Hawaiian organizations, the SNOMNH has determined that:

• The human remains described in this notice represent the physical remains of 37 individuals of Native American ancestry.

• The 848 objects described in this notice are reasonably believed to have been placed with or near individual human remains at the time of death or later as part of the death rite or ceremony.

• There is a relationship of shared group identity that can be reasonably traced between the human remains and associated funerary objects described in this notice and the Caddo Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 18, 2024. If competing requests for repatriation are received, the SNOMNH must determine the most appropriate requestor prior to repatriation. Requests for joint repatriation of the human remains and associated funerary objects are considered a single request and not competing requests. The SNOMNH is responsible for sending a copy of this notice to the Indian Tribe identified in this notice.

Authority: Native American Graves Protection and Repatriation Act, 25 U.S.C. 3003, and the implementing regulations, 43 CFR 10.9, § 10.10, and § 10.14.

Dated: December 8, 2023.
Melanie O'Brien,
Manager, National NAGPRA Program.

[FR Doc. 2023-27801 Filed 12-18-23; 8:45 am]

BILLING CODE 4312-52-P